DEPARTMENT OF THE INTERIOR

Bureau of Land Management

[LLMT926000-L19100000-BJ0000-LRCSE1001200]

Notice of Filing of Plats of Survey; Montana

AGENCY: Bureau of Land Management, Interior.

ACTION: Notice of filing of plats of survey.

SUMMARY: The Bureau of Land Management (BLM) will file the plat of survey of the lands described below in the BLM Montana State Office, Billings, Montana, on September 28, 2011.

DATES: Protests of the survey must be filed before September 28, 2011 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5009, Marvin_Montoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Regional Realty Officer, Northwest Region, Bureau of Indian Affairs, Portland, Oregon, and was necessary to determine individual and tribal trust lands.

The lands we surveyed are:

Principal Meridian, Montana

T. 21 N., R. 20 W.

The plat, in five sheets, representing the dependent resurvey of a portion of the east boundary and a portion of the subdivisional lines, and the subdivision of sections 2, 12, and 24, and the survey of a portion of the centerline of Old U.S. Highway 93, through section 2, a portion of the easterly right-of-way of present U.S. Highway 93, through section 12, a portion of the easterly right-of-way of Old U.S. Highway 93, through section 24, a portion of the easterly right-of-way of the Burlington Northern Railroad, through section 2, and certain tracts in sections 2, 12, and 24, Township 21 North, Range 20 West, Principal Meridian, Montana, was accepted August 16, 2011.

We will place a copy of the plat, in five sheets, and related field notes we described in the open files. They will be available to the public as a matter of information. If the BLM receives a protest against this survey, as shown on this plat, in five sheets, prior to the date of the official filing, we will stay the filing pending our consideration of the protest. We will not officially file this plat, in five sheets, until the day after we have accepted or dismissed all protests and they have become final, including decisions or appeals.

Authority: 43 U.S.C. Chap. 3.

Steve L. Toth,
Acting Chief Cadastral Surveyor, Division of Resources.

[FR Doc. 2011-22040 Filed 8-26-11; 8:45 am]

BILLING CODE 4310-DN-P